DEPARTMENT OF ENERGY

Federal Energy Regulatory Commission

[Project No. 6470-008]

Winooski Hydroelectric Company; Notice of Application Accepted for Filing and Soliciting Motions To Intervene and Protests

Take notice that the following hydroelectric application has been filed with the Commission and is available for public inspection.

a. Type of Application: Subsequent Minor License.

b. Project No.: 6470-008.

c. Date Filed: July 30, 2021.

d. Applicant: Winooski Hydroelectric Company (WHC).

e. Name of Project: Winooski 8 Hydroelectric Project (project).

f. Location: On the Winooski River in Washington County, Vermont. The project does not affect federal lands.

g. Filed Pursuant to: Federal Power Act 16 U.S.C. 791(a)-825(r).

h. Applicant Contact: Mathew Rubin, General Partner, Winooski Hydroelectric Company, 26 State Street, Montpelier, Vermont 05602; (802) 793-5939; or email at m@mrubin.biz.

i. FERC Contact: Kristen Sinclair at (202) 502-6587, or kristen.sinclair@ferc.gov.

j. Deadline for filing motions to intervene and protests: December 13, 2021.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Winooski 8 Hydroelectric Project (P-6470-008).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. The Winooski 8 Hydroelectric Project consists of the following constructed facilities: (1) A 222.5-foot-long, 26-foot-high concrete gravity dam impounding a reservoir with a storage capacity of approximately 20 acre-feet at an elevation of 615 feet mean sea level; (2) a 148-foot-long spillway with 4-foot-high flashboards built into the crest of the dam; (3) a 24-foot-long, hydraulically operated crest gate; (4) a 1,100-square-foot forebay located adjacent to the project impoundment; (5) three hydraulically operated trashracks; (6) a 1,550-square-foot powerhouse that contains two semi-Kaplan turbines and one fixed propeller turbine for a total installed capacity of 856 kilowatts; (7) a 100-foot-long tailrace; (8) a 1,000 kilovolt-amp station transformer; (9) a 30-foot long, 13-kilovolt transmission line and (10) appurtenant facilities. The project generates an average of 3,507 megawatt-hours annually.

WHC proposes to continue to operate the project in an automated run-of-river mode. WHC also proposes to add 3.6 acres to the existing project boundary to enclose a 4,100-foot-long dirt road currently used by WHC to access the dam and powerhouse and to enclose an existing unimproved recreation site that provides access to the river for boating and fishing activities downstream of the dam.

m. A copy of the application is available for review via the internet through the Commission's Home Page (http://www.ferc.gov), using the “eLibrary” link. Enter the docket number, excluding the last three digits in the docket number field, to access the document. At this time, the Commission has suspended access to the Commission's Public Reference Room due to the proclamation declaring a National Emergency concerning the Novel Coronavirus Disease (COVID-19), issued by the President on March 13, 2020. For assistance, contact FERC Online Support.

You may also register online at https://ferconline.ferc.gov/FERCOnline.aspx to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments—December 2021

Comments on Scoping Document 1 Due—February 2022

Issue Scoping Document 2 (if necessary)—March 2022

Request Additional Information (if necessary)—March 2022

Water Quality Study Results Due—November 2022

Issue Notice of Ready for Environmental Analysis—December 2022

Dated: October 13, 2021.
Kimberly D. Bose,
Secretary.

[FR Doc. 2021-22732 Filed 10-18-21; 8:45 am]

BILLING CODE 6717-01-P